SMALL BUSINESS ADMINISTRATION

[TeleSoft Partners II SBIC, L.P.; License No. 09/79-0432]

Notice Seeking Exemption Under Section 312 of the Small Business Investment Act, Conflicts of Interest

Notice is hereby given that TeleSoft Partners II SBIC, L.P., 950 Tower Lane, Suite 1600, Foster City, CA 94404, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). TeleSoft Partners II SBIC, L.P. proposes to provide equity financing to Calient Networks, Inc., 2665 North First Street, Suite 204, San Jose, CA 95134. The financing is contemplated for working capital and general corporate purposes.

The financing is brought within the purview of section107.730(a)(1) of the Regulations because TeleSoft Partners II, L.P., TeleSoft Partners II QP, L.P. and TeleSoft NP Employee Fund, L.L.C, all Associates of TeleSoft Partners II SBIC, L.P., in the aggregate own more than ten percent of Calient Networks, Inc.

Therefore, this transaction is considered a financing of an Associate requiring an exemption. Notice is hereby given that any interested person may submit written comments on the transaction within fifteen days of the date of this publication to the Acting Associate Administrator for Investment, U.S. Small Business Administration, 409 Third Street, SW., Washington, DC 20416.

Dated: February 25, 2009.
Harry Haskins,
Acting Associate Administrator for Investment.

[FR Doc. E9-4986 Filed 3-9-09; 8:45 am]

BILLING CODE 8025-01-P